DEPARTMENT OF AGRICULTURE

Forest Service

Questa Ranger District, Carson National Forest; Taos County, NM; Taos Ski Valley's 2010 Master Development Plan—Phase 1 Projects; Additional Filings

AGENCY: Forest Service, USDA.

ACTION: Notice; correction.

SUMMARY: The USDA Forest Service published in the Federal Register a Notice of Intent (75 FR 71414-71415, November 23, 2010) to prepare an environmental impact statement for a proposal to authorize several (Phase 1) projects included in the Taos Ski Valley (TSV) 2010 Master Development Plan (MDP). All proposed projects would be within the existing special use permit (SUP) area.

A corrected notice of intent was published in the Federal Register on September 29, 2011 (76 FR 60451) modifying the proposed action to relocate the snow tubing area and add the relocation of an existing footbridge across the Rio Hondo.

The Environmental Protection Agency (EPA) published a notice of availability (NOA) for the draft EIS in the Federal Register on January 13, 2012 (77 FR 2060).

Revised Dates: The final environmental impact statement (final EIS) and record of decision (ROD) are expected in July 2012.

Change in Responsible Official: In addition, this notice changes the official responsible for the EIS and subsequent record of decision to Acting Forest Supervisor Diana Trujillo, Carson National Forest.

ADDRESSES: Send written comments to Carson National Forest, Taos Ski Valley MDP—Phase 1 Projects, 208 Cruz Alta Road, Taos, NM 87571. Comments may also be sent via email to comments-southwestern-carson@fs.fed.us or facsimile to (575) 758-6213.

FOR FURTHER INFORMATION CONTACT: Additional information related to the proposed project can be obtained from the Forest's Web page at: http://www.fs.fed.us/r3/carson/. The Forest Service contact is Audrey Kuykendall, who can be reached at 575-758-6200.

Dated: June 13, 2012.
Diana M. Trujillo,
Acting Carson National Forest Supervisor.

[FR Doc. 2012-14995 Filed 6-19-12; 8:45 am]

BILLING CODE 3410-11-P